DEPARTMENT OF HEALTH AND HUMAN SERVICES

Centers for Medicare & Medicaid Services

[Document Identifier CMS-R-218]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement of a previously approved collection; Title of Information Collection: Health Insurance Portability and Accountability Act (HIPAA) Standards for Electronic Transactions and Supporting Regulations in 45 CFR Part 162. Use: This information collection request has no substantive changes since the last OMB approval in 2008. The adopted transaction standards currently in use for electronic transactions (Version 4010/4010a) are compatible with the ICD-9-CM adopted code set that is used to report diagnoses and hospital inpatient services. However, the ICD-10 codes cannot be used with Version 4010/4010a, because this version does not have a specific qualifier or indicator for reporting ICD-10 codes.

Version 5010 supports the use of the ICD-10 code set by making available a qualifier to indicate that an ICD-10 code is being reported. Like ICD-9, ICD-10 codes are reported in claim and payment transactions, as well as eligibility inquiries and responses and requests for referrals and authorizations. In Version 5010, the number of codes required in any given transaction does not change. It is possible that a fewer number of codes in a given transaction may be necessary to report the same information reported with ICD-9 codes because ICD-10 codes are more specific. Form Number: CMS-R-218 (OCN: 0938-0866). Frequency: Occasionally. Affected Public: Private Sector (Business or other for-profits, Not-for-profit institutions). Number of Respondents: 696,026. Total Annual Responses: 696,026. Total Annual Hours: 6,960,260. (For policy questions regarding this collection contact Gladys Wheeler at 410-786-0273. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on April 22, 2013.

OMB, Office of Information and Regulatory Affairs, Attention: CMS Desk Officer, Fax Number: (202) 395-6974, Email: OIRA_submission@omb.eop.gov.

Dated: March 18, 2013.
Martique Jones,
Deputy Director, Regulations Development Group, Office of Strategic Operations and Regulatory Affairs.

[FR Doc. 2013-06534 Filed 3-20-13; 8:45 am]

BILLING CODE 4120-01-P